DEPARTMENT OF TRANSPORTATION

Federal Aviation Administration

Third Meeting—Special Committee 222— Inmarsat Aeronautical Mobile Satellite (Route) Services

AGENCY: Federal Aviation Administration (FAA), DOT.

ACTION: Notice of RTCA Special Committee 222 meeting.

SUMMARY: The FAA is issuing this notice to advise the public of a meeting of RTCA Special Committee 222: Inmarsat Aeronautical Mobile Satellite (Route) Services.

DATES: The meeting will be held Wednesday, July 8, 1 p.m.-5 p.m.; a joint meeting with AEEC AGCS on Thursday, July 9, 8:30 a.m.-5 p.m.; and Friday, July 10, 8:30 a.m.-11:30 a.m. (if necessary, possible working group of the whole).

ADDRESSES: Boeing facilities at Building 25-01.1, Cafe´ Special Function Room, Longacres Park, Southcenter/Tukwila Area, Washington, USA.

This meeting is to be held in conjunction with the AEEC Air-Ground Communications Subcommittee meeting.

FOR FURTHER INFORMATION CONTACT: RTCA Secretariat, 1828 L Street, NW., Suite 805, Washington, DC, 20036; telephone (202) 833-9339; fax (202) 833-9434; Web site http://www.rtca.org.

Note: Business Casual.

SUPPLEMENTARY INFORMATION: Pursuant to section 10(a) (2) of the Federal Advisory Committee Act (Pub. L. 92-463, 5 U.S.C., Appendix 2), notice is hereby given for a Special Committee 222, Inmarsat Aeronautical Mobile Satellite (Route) Services. The agenda will include:

Wednesday, July 8, 2009 1 P.M. Through Friday, July 10, 2009

• Opening Plenary (Introductions and Opening Remarks).

• Review and Approval of Summary for the Second Meeting of Special Committee 222 held April 22-23, 2009 at RTCA, Washington, DC; RTCA Paper No. SC222/WP-020.

• Review and Approval of the Agenda for the Third Meeting of SC-222, WP-022.

• Old Business.

○ Review of/reports for the currently active Action Items regarding SBB Safety issues.

○ Inmarsat: Complete the tables for DO-262 and DO-270 listing in Working Paper WP-4.

○ AIRBUS/Roser Roca-Toha list of questions to Orville Nyhus.

○ Chuck LaBerge RCP document on the SC-222 Web site.

○ Carole Plessy-Gourdan ATCt interference test procedures on the SC-222 Web site.

○ Chuck LaBerge updated MASPS two weeks prior to the 3rd meeting of SC-222.

○ Manufacturers comments by May 1, 2009 on Carole Plessy-Gourdon's test procedures.

○ Kevin Mattison the COCR on the SC-222 Web site.

○ Chuck LaBerge Sky Terra schedule for rollout of ATCt and Inmarsat schedule for SBB to compare timing requirements for operating in the presence of interference.

○ Boeing/Glenn Torgersen and the FAA/Kevin Mattison findings with regard to SATCOM dispatch procedures.

• Working Papers, Discussions, and Schedule Review regarding ATCt issues.

○ Aero Classic Equipment Interference Test Results—Carole Plessy-Gourdon, Inmarsat.

○ Performance of Unfiltered AMS(R)S Equipment in the Presence of ATCt Interference—Gustavo Nader, Sky Terra.

• Working Papers, Discussions, and Schedule Review regarding SBB Safety Services.

○ Review draft DO-270 technique-specific material.

○ Review of related working papers, if any.

• Closing Plenary (Other Business, Review of Assignments and Action Items, Date and Location for the 4th Meeting of SC-222, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on June 8, 2009.
Francisco Estrada C.,
RTCA Advisory Committee.

[FR Doc. E9-14165 Filed 6-16-09; 8:45 am]

BILLING CODE 4910-13-P